DEPARTMENT OF ENERGY

Federal Energy Regulatory Commission

Combined Notice of Filings #1

Take notice that the Commission received the following electric corporate filings:

Docket Numbers: EC21-86-000.

Applicants: Alta Wind VIII, LLC, Granite Reliable Power, LLC, Windstar Energy LLC, Tusk Wind Holdings, LLC, Tusk Wind Holdings II, LLC, Tusk Wind Holdings III, LLC, NextEra Energy Partners, LP.

Description: Application for Authorization Under Section 203 of the Federal Power Act of Alta Wind VIII, LLC, et al.

Filed Date: 5/3/21.

Accession Number: 20210503-5292.

Comments Due: 5 p.m. ET 5/24/21.

Take notice that the Commission received the following exempt wholesale generator filings:

Docket Numbers: EG21-137-000.

Applicants: Rayos del Sol Solar Project, LLC.

Description: Notice of Self Certification of Exempt Wholesale Generator Status of Rayos del Sol Solar Project, LLC.

Filed Date: 5/3/21.

Accession Number: 20210503-5127.

Comments Due: 5 p.m. ET 5/24/21.

Docket Numbers: EG21-138-000.

Applicants: Guernsey Power Station LLC.

Description: Notice of Self-Certification of Exempt Wholesale Generator Status of Guernsey Power Station LLC.

Filed Date: 5/3/21

Accession Number: 20210503-5276.

Comments Due: 5 p.m. ET 5/24/21.

Docket Numbers: EG21-139-000.

Applicants: Stony Creek Energy LLC.

Description: Notice of Self-Certification of Exempt Wholesale Generator Status of Stony Creek Energy LLC.

Filed Date: 5/4/21.

Accession Number: 20210504-5153.

Comments Due: 5 p.m. ET 5/25/21.

Take notice that the Commission received the following electric rate filings:

Docket Numbers: ER10-1801-006; ER10-1805-007; ER10-2370-005.

Applicants: The Connecticut Light and Power Company, NSTAR Electric Company, Public Service Company of New Hampshire.

Description: Notice of Non-Material Change in Status of The Connecticut Light and Power Company, et al.

Filed Date: 5/3/21.

Accession Number: 20210503-5124.

Comments Due: 5 p.m. ET 5/24/21.

Docket Numbers: ER10-2527-010; ER10-1821-021; ER10-2400-014; ER10-2405-009; ER10-2414-012; ER10-2528-005; ER10-2529-005; ER10-2530-006; ER10-2531-012; ER10-2532-016; ER10-2533-010; ER10-2534-006; ER10-2535-012; ER10-2839-007; ER10-3097-012; ER11-4475-014; ER17-2059-008; ER19-1044-003; ER20-1608-002; ER20-1610-003.

Applicants: Allegheny Ridge Wind Farm, LLC, Goshen Phase II LLC, Blue Canyon Windpower LLC, High Prairie Wind Farm II, LLC, Old Trail Wind Farm, LLC, Aragonne Wind LLC, Buena Vista Energy, LLC, Caprock Wind LLC, Cedar Creek Wind Energy, LLC, Crescent Ridge LLC, GSG, LLC, Kumeyaay Wind LLC, Mendota Hills, LLC, Midland Cogeneration Venture Limited Partnership, Bruce Power Inc., Rockland Wind Farm LLC, Puget Sound Energy, Inc., Telocaset Wind Power Partners, LLC, Mountain Breeze Wind, LLC, Lone Tree Wind, LLC.

Description: Notice of Non-Material Change in Status of Allegheny Ridge Wind Farm, LLC.

Filed Date: 4/30/21.

Accession Number: 20210430-5750.

Comments Due: 5 p.m. ET 5/21/21.

Docket Numbers: ER20-681-002.

Applicants: Tri-State Generation and Transmission Association, Inc.

Description: Notice of Non-Material Change in Status of Tri-State Generation and Transmission Association, Inc.

Filed Date: 5/3/21.

Accession Number: 20210503-5101.

Comments Due: 5 p.m. ET 5/24/21.

Docket Numbers: ER21-1778-000; TS21-2-000.

Applicants: Guernsey Power Station, LLC.

Description: Request of Guernsey Power Station LLC for Temporary Waivers under Section 35.28 of the Commission's Regulations.

Filed Date: 4/27/21.

Accession Number: 20210427-5245.

Comments Due: 5 p.m. ET 5/18/21.

Docket Numbers: ER21-1821-000.

Applicants: St. Joseph Phase II, LLC.

Description: Request for Prospective Tariff Waiver, et al. of St. Joseph Phase II, LLC.

Filed Date: 4/30/21.

Accession Number: 20210430-5609.

Comments Due: 5 p.m. ET 5/21/21.

Docket Numbers: ER21-1833-000.

Applicants: PJM Interconnection, L.L.C.

Description: § 205(d) Rate Filing: Original ISA, SA No. 6024 and Original ICSA, SA No. 6025; Queue No. AB2-135 to be effective 4/5/2021.

Filed Date: 5/4/21.

Accession Number: 20210504-5010.

Comments Due: 5 p.m. ET 5/25/21.

Docket Numbers: ER21-1834-000.

Applicants: PJM Interconnection, L.L.C.

Description: § 205(d) Rate Filing: Original WMPA, Service Agreement No. 6062; Queue No. AG1-253 to be effective 4/6/2021.

Filed Date: 5/4/21.

Accession Number: 20210504-5026.

Comments Due: 5 p.m. ET 5/25/21.

Docket Numbers: ER21-1835-000.

Applicants: Public Service Company of Colorado

Description: § 205(d) Rate Filing: 2021-05-04 PSC-MEAN-GlnwdSpngs-CardnellSS-COM-583-0.0.0 to be effective 7/3/2021.

Filed Date: 5/4/21.

Accession Number: 20210504-5038.

Comments Due: 5 p.m. ET 5/25/21.

Docket Numbers: ER21-1836-000.

Applicants: AEP Texas Inc.

Description: § 205(d) Rate Filing: AEPTX-King Creek Wind Farm 1 (Apogee) 1st A&R GIA to be effective 4/29/2021.

Filed Date: 5/4/21.

Accession Number: 20210504-5065.

Comments Due: 5 p.m. ET 5/25/21.

Docket Numbers: ER21-1837-000.

Applicants: PJM Interconnection, L.L.C.

Description: § 205(d) Rate Filing: Original WMPA, SA No. 6022; Queue No. AB1-176 to be effective 4/5/2021.

Filed Date: 5/4/21.

Accession Number: 20210504-5113.

Comments Due: 5 p.m. ET 5/25/21.

Docket Numbers: ER21-1838-000.

Applicants: Orangeville Energy Storage LLC.

Description: Baseline eTariff Filing: Application for Market-Based Rate Authorization to be effective 6/7/2021.

Filed Date: 5/4/21.

Accession Number: 20210504-5114.

Comments Due: 5 p.m. ET 5/25/21.

Docket Numbers: ER21-1839-000.

Applicants: Orangeville Energy Storage LLC.

Description: Initial rate filing: Filing of Assignment, Co-Tenancy, and Shared Facilities Agreement to be effective 6/7/2021.

Filed Date: 5/4/21.

Accession Number: 20210504-5123.

Comments Due: 5 p.m. ET 5/25/21.

Docket Numbers: ER21-1840-000.

Applicants: Stony Creek Energy LLC.

Description: Initial rate filing: Filing of Assignment, Co-Tenancy, and Shared Facilities Agreement to be effective 6/7/2021.

Filed Date: 5/4/21.

Accession Number: 20210504-5125.

Comments Due: 5 p.m. ET 5/25/21.

Docket Numbers: ER21-1841-000.

Applicants: Lookout Solar Park I, LLC.

Description: Request for Limited Waiver of Tariff Provision, et al. of Lookout Solar Park I, LLC.

Filed Date: 5/4/21.

Accession Number: 20210504-5141.

Comments Due: 5 p.m. ET 5/18/21.

Docket Numbers: ER21-1842-000.

Applicants: Richland Interconnection, LLC.

Description: Baseline eTariff Filing: Richland Interconnection SFA Filing to be effective 5/5/2021.

Filed Date: 5/4/21.

Accession Number: 20210504-5144.

Comments Due: 5 p.m. ET 5/25/21.

Docket Numbers: ER21-1843-000.

Applicants: PJM Interconnection, L.L.C.

Description: § 205(d) Rate Filing: Original WMPA, SA No. 6023; Queue No. AE1-109 to be effective 4/6/2021.

Filed Date: 5/4/21.

Accession Number: 20210504-5149.

Comments Due: 5 p.m. ET 5/25/21.

Docket Numbers: ER21-1844-000.

Applicants: PJM Interconnection, L.L.C.

Description: § 205(d) Rate Filing: Capital Recovery Factor for Avoidable Project Investment Cost Determinations to be effective 11/12/2020.

Filed Date: 5/4/21.

Accession Number: 20210504-5154.

Comments Due: 5 p.m. ET 5/25/21.

Docket Numbers: ER21-1845-000.

Applicants: Interstate Power and Light Company.

Description: § 205(d) Rate Filing: IPL Assignment Co-Tenancy Agreement Filing to be effective 5/5/2021.

Filed Date: 5/4/21.

Accession Number: 20210504-5159.

Comments Due: 5 p.m. ET 5/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2021.
Kimberly D. Bose,
Secretary.

[FR Doc. 2021-09830 Filed 5-7-21; 8:45 am]

BILLING CODE 6717-01-P